DEPARTMENT OF TRANSPORTATION

National Highway Traffic Safety Administration

49 CFR Parts 591, 592 and 594

[Docket No. NHTSA-2000-8159; Notice 4]

RIN 2127-AJ63

Certification; Importation of Vehicles and Equipment Subject to Federal Safety, Bumper and Theft Prevention Standards; Registered Importers of Vehicles Not Originally Manufactured To Conform to the Federal Motor Vehicle Safety Standards

AGENCY: National Highway Traffic Safety Administration (NHTSA), Department of Transportation (DOT).

ACTION: Response to Petitions for Reconsideration.

SUMMARY: This document responds to two petitions for reconsideration of the October 4, 2005 final rule that amended regulations pertaining to the importation by registered importers of motor vehicles that were not originally manufactured to comply with all applicable Federal motor vehicle safety, bumper, and theft prevention standards. The petitioners contend that certification to the Theft Prevention Standard can not be accomplished after the original manufacture of a vehicle and object to a provision in the rule that requires registered importers to certify that either the vehicle is not required to comply with the parts marking requirements of the Theft Prevention Standard or that the vehicle complies with those requirements as manufactured or as modified prior to importation. The agency is denying the petitions. This document also denies a petition for an emergency stay by one of the petitioners.

FOR FURTHER INFORMATION CONTACT: For non-legal issues, you may contact Coleman Sachs, Office of Vehicle Safety Compliance, National Highway Traffic Safety Administration, Room 6111, 400 Seventh Street, SW, Washington, DC 20590; Telephone: (202) 366-3151. For legal issues, you may contact Michael Goode, Office of Chief Counsel, Telephone: (202) 366-5263.

SUPPLEMENTARY INFORMATION:

I. Background

On November 20, 2000, NHTSA published a Notice of Proposed Rulemaking (NPRM) proposing extensive amendments to the agency's regulations that pertain to the importation by registered importers (RIs) of motor vehicles that were not originally manufactured to comply with all applicable Federal motor vehicle safety, bumper, and theft prevention standards. 65 FR 69810. On August 24, 2004, we published a final rule (69 FR 52070), and on October 4, 2005, we amended several provisions of that final rule in response to a petition for reconsideration (70 FR 57793). One of the amendments in the October 4, 2005 rule required RIs to certify for each nonconforming vehicle that they import that either the vehicle is not required to comply with the parts marking requirements of the Theft Prevention Standard (49 CFR part 541) or that the vehicle complies with those requirements as manufactured, or as modified prior to importation. 49 CFR 592.6(d)(1)(ii); see 70 FR at 57801.

The National Insurance Crime Bureau (NICB)¹ submitted a petition for reconsideration objecting to this provision, based on the contention that NHTSA has no authority to allow any entity other than the original manufacturer to certify compliance with the Theft Prevention Standard. The North American Export Committee ² also filed a petition in support of NICB's petition. In addition, on November 3, 2005, NICB filed a petition for an emergency stay of the effective date of the final rule. We are denying the petitions for reconsideration and the petition for a stay for the reasons discussed below.

¹ NICB states it is a non-profit organization that receives support from approximately 1,000 property/casualty insurance companies. The NICB works with insurers and law enforcement agencies to facilitate the identification, detection, and prosecution of insurance criminals.

² The North American Export Committee states it is an entity composed of law enforcement organizations, insurance and vehicle-related business representatives in the U.S., Canada, and Mexico.

II. Discussion

A. Theft Prevention Regulations

The Motor Vehicle Theft Law Enforcement Act of 1984 (Theft Act) (Pub. L. 98-547, 98 Stat. 2754) added Title VI, “Theft Prevention,” to the Motor Vehicle Information and Cost Savings Act (Cost Savings Act), 15 U.S.C. 1901 et seq. (1982 & Supp.V 1987).³ The Theft Act required the Secretary of Transportation to issue rules to address the problem of vehicle theft. See 15 U.S.C. 2022 (Supp. V 1987). In a rulemaking conducted in 1985, NHTSA promulgated the Theft Prevention Standard pursuant to a delegation from the Secretary. 50 FR 43166 (Oct. 24, 1985). This rule set forth the performance criteria for affixing to or inscribing on covered major parts ⁴ of “high theft” line passenger motor vehicles identifying numbers, which generally are vehicle identification numbers (VINs). The Theft Prevention Standard was codified at 49 CFR part 541 (1986).

³ Pub. L. 92-513, 86 Stat. 947. The Cost Savings Act, as amended, was repealed in the course of the 1994 recodification of various laws pertaining to the Department of Transportation and was reenacted and recodified without substantive change as 49 U.S.C. 32101 et seq. (Pub. L. 103-272, 108 Stat. 745). See 108 Stat. 1034 (Cost Savings Act, as amended); 108 Stat. 1076 (Theft Prevention title); 108 Stat. 1379-1400 (repeals).

⁴ Currently, the list of major parts includes: engine, transmission, hood, fenders, side and rear doors (including sliding and cargo doors and deck lids, tailgates, or hatchbacks, whichever is present), bumpers, quarter panels, and pickup boxes and/or cargo boxes. See 49 CFR 541.5.

In the rulemaking on the Theft Prevention Standard, NHTSA discussed the question of who may certify compliance with the Standard. Section 606(c)(1) of the Cost Savings Act, 15 U.S.C. 2026(c)(1) (Supp. V 1987), provided that:

Every manufacturer of a motor vehicle subject to the standard * * * and every manufacturer of any major replacement part subject to such standard, shall furnish at the time of delivery of such vehicle or part a certification that such vehicle or replacement part conforms to the applicable motor vehicle Theft Prevention Standard.

The Theft Act did not define manufacturer, although the term was defined in the Cost Savings Act. 15 U.S.C. 1901(7) (1982 & Supp. V 1987).

The NPRM on the Theft Prevention Standard proposed that only original vehicle manufacturers be allowed to certify compliance with the theft standard. See 50 FR at 19737-40. The agency noted that this would have the effect of prohibiting direct importers ⁵ from importing any high theft vehicle into the United States. As defined in the preamble, a direct importer is a person that obtains foreign vehicles not originally manufactured for sale in the United States, brings those vehicles into the United States and modifies those vehicles so that they may be certified as being in compliance with U.S. vehicle safety, emissions, and bumper standards. 50 FR at 19738 (May 10, 1985); see also 50 FR at 43166 and 43181 (Oct. 24, 1985). NHTSA explained that:

⁵ This term was used before the term registered importer was employed. The term registered importer has been used since the enactment of the Imported Vehicle Safety Compliance Act of 1988 (Pub. L. 100-562, 102 Stat. 2818), which amended the National Traffic and Motor Vehicle Safety Act and has been recodified at 49 U.S.C. 30141 et seq. Section 30141(c) provides for registration of importers. Both before and after the 1988 amendments, the National Traffic and Motor Vehicle Safety Act, as amended, required that a vehicle not originally manufactured to conform to safety standards be bonded for entry into the U.S. and be modified to meet all applicable safety standards.

This proposal was based upon the Theft Act's prohibition against importing non-complying vehicles into the U.S., together with the Theft Act's ambiguity as to whether persons besides the original manufacturer should be allowed to certify compliance. The proposal was also based upon the agency's tentative conclusion that limiting certification authority would enhance the security of the marking technologies and the enforcement of this Theft Prevention Standard.

50 FR 43167

In their comments on the NPRM, generally, original manufacturers supported the proposed limitation on who could certify vehicles and importers opposed it. 50 FR at 43182. The importers argued that if Congress had intended to limit certification authority to original manufacturers, it would have done so explicitly. Id. A group of importers suggested a number of methods by which importers could be allowed to certify compliance without sacrificing enforcement. Id. The Department of Justice, which had enforcement authority under the Act (15 U.S.C. 2028 (Supp. V 1987)) supported the position of the direct importers. Id.

In the final rule establishing the Theft Prevention Standard, NHTSA allowed direct imports of high theft vehicles. 50 FR at 43167, 43181-87. The rule's definitions section stated:

Statutory terms. All terms defined in sections 2 and 601 of the Motor Vehicle Information and Cost Savings Act (15 U.S.C. 1901 and 2021) are used in accordance with their statutory meanings unless otherwise defined in paragraph (b) of this section. [49 CFR 541.4(a) (1986)].

One such term was “manufacturer”, which was defined as: “any person engaged in the manufacturing or assembling of passenger motor vehicles or passenger motor vehicle equipment including any person importing motor vehicles or motor vehicle equipment for resale.” 15 U.S.C. 1901(7) (1982 & Supp. V 1987).

In the Theft Prevention Standard, NHTSA specified requirements for passenger cars not originally manufactured to comply with U.S. vehicle safety and bumper standards. See 49 CFR 541.5(a) and (b)(3) (1986). These were explained in the preamble to the rule. 50 FR at 43183-85. NHTSA also established requirements for replacement parts subject to marking requirements which were not originally manufactured for sale in the United States. 49 CFR 541.6(a).

The agency's analysis of who may certify conformity to the Theft Prevention Standard began with the definition of the term “manufacturer” in section 2(7) of the Cost Savings Act, 15 U.S.C. 1901(7) (1982 & Supp. V 1987), which, as quoted above, included “any person importing motor vehicles or motor vehicle equipment for resale.” 50 FR at 43181.

We concluded that, for various reasons, the Cost Savings Act's broad definition of “manufacturer” applies to use of that term in the Theft Act, which added Title VI to the Cost Savings Act. 50 FR at 43182. Although the new Title VI on theft prevention did not state a definition of “manufacturer,” we noted that, in the Theft Act, Congress amended the Cost Savings Act to make its general definitions in section 2 apply to the Theft Act unless Title VI provided a different definition.⁶ (See the introductory clause to 49 U.S.C. 32101 for the current version of that language in recodified form.) For example, in Title VI, Congress provided a definition for “passenger motor vehicle” that differed from that already found in the Cost Savings Act, making the Title VI definition applicable for Theft Act purposes. (Compare the Cost Savings Act definition, now found at 49 U.S.C. 32101(10), with that in the Theft Act, now found in 49 U.S.C. 33101(10).) However, Title VI did not contain such a new and uniquely limited definition of “manufacturer,” meaning that the definition of that term for Theft Act purposes was provided by the Cost Savings Act's definition of the term in section 2(7), which included any person importing motor vehicles or motor vehicle equipment for resale. This indicated that if Congress had wanted to exclude direct importers from the definition of manufacturer, it presumably would have done so explicitly. 50 FR at 43182.

⁶ 15 U.S.C. 1901 (Supp. V 1987) provided: “Definitions for the purpose of this chapter [of the United States Code] (except subchapter V and except as provided in section 2021 of this title):”.

We also noted that the House Report expressly stated that the legislation was designed to “minimize regulation of the domestic and foreign motor vehicle manufacturing industry including the aftermarket motor vehicle industry” and it would be inconsistent with this goal to force a part of the industry out of that business. Id. citing H.R. Rep. No. 89-1087 at 2 (1984). We recognized that the language of certain portions of Title VI seemed to indicate that Congress did not contemplate certification by direct importers. For example, we noted that Congress did not explicitly provide for importing vehicles not conformed to the theft standard under bond, as it had done for the safety, emissions, and bumper standards. 50 FR at 43182. As we explained, however, since there is no bonding provision under Title VI of the Cost Savings Act to assure conformity following importation, as exists under the Vehicle Safety Act, all vehicles subject to the theft standard must be certified as complying with the requirements of the Theft Prevention Standard before they are imported. Id. at 43181.

The preamble to the theft prevention rule also considered whether the policy goals underlying the Theft Act would be better served by allowing or prohibiting certification of compliance by direct importers. After examining the matter, the agency adopted a final rule that allows all entities that are “manufacturers” within the meaning of the Cost Savings Act to certify compliance with the requirements of the Theft Prevention Standard. Id. at 43183. We stated that this is consistent with existing practice under the National Traffic and Motor Vehicle Safety Act of 1966 as amended (Vehicle Safety Act) ⁷, the Clean Air Act, and Title I of the Cost Savings Act.

⁷ The National Traffic and Motor Vehicle Safety Act, as amended, was repealed in the course of the 1994 recodification of various laws pertaining to the Department of Transportation and was reenacted and recodified without substantive change as 49 U.S.C. 30101 et seq. Pub. L. 103-272, 108 Stat. 745, 941-973; 1379-1400 (repeals).

In 1992, Congress enacted The Anti Car Theft Act of 1992, which amended the Theft Act, Public Law 102-519, 106 Stat 3384. During this legislative activity, Congress considered the coverage of the Theft Act. It expanded the application of the Theft Prevention Standard to include multipurpose passenger vehicles and light duty trucks. ⁸ However, Congress did not question the definition of manufacturer, as interpreted in the agency's 1985 rule.

⁸ 106 Stat 3393. See 49 U.S.C. § 33101(10).

B. Registered Importer Rule Amendments

On November 20, 2000, NHTSA published an NPRM proposing extensive amendments to the agency's regulations pertaining to the importation by RIs of vehicles that were not originally manufactured to comply with all applicable Federal motor vehicle safety, bumper and theft prevention standards. 65 FR 69810. As noted above, before this rulemaking, the agency had interpreted the Theft Act as allowing vehicles not originally manufactured to conform to the Theft Prevention Standard to be brought into conformance before entry into the United States, but not allowing post-entry conformance.

In the registered importer rulemaking, one proposed amendment was to permit RIs to bring a vehicle into compliance with the Theft Prevention Standard after the vehicle's entry into the United States. 69 FR at 69817. In its comments, NICB objected to this proposed provision.

The final RI rule did not adopt the proposal to allow post-entry conformance of imported vehicles to the Theft Prevention Standard. 69 FR 52070, 52078-79 (Aug. 24, 2004). Our decision not to adopt the proposal was based upon the prohibition against importing vehicles that do not conform to the Theft Prevention Standard in 49 U.S.C. 33114(a)(1). Unfortunately, the text of the rule inadvertently went beyond precluding post-entry conformance to the Theft Prevention Standard, and precluded conformance following the original production of the vehicle. 69 FR at 52096.

A petition for reconsideration of the final RI rule by Mr. Philip Trupiano of Auto Enterprises, Inc., an RI, requested the agency to expressly permit the importation of a motor vehicle modified prior to importation to comply with the Theft Prevention Standard. 70 FR at 57797. In response, NHTSA amended the RI rule to require the RI to certify that the vehicle complies with parts marking requirements of the Theft Prevention Standard as manufactured or as modified prior to importation unless the vehicle is not required to comply. 49 CFR 592.6(d)(1)(ii), 70 FR 57801 (Oct. 4, 2005). We explained:

The agency did not intend to preclude the importation of vehicles that are modified to comply with the Theft Prevention Standard prior to importation. However, the text of the provision adopted by the agency in 49 CFR 592.6(d)(1) inadvertently went beyond this intent by prohibiting the importation of a vehicle that was not originally manufactured to comply with the parts marking requirements of the Theft Prevention Standard. Because we did not intend to preclude the importation of vehicles that are modified to comply with the Theft Prevention Standard prior to importation, we are amending section 592.6(d)(1). As amended, the section excludes vehicles that do not comply with the Theft Prevention Standard at the time of importation, as opposed to those that were not originally manufactured to comply with that standard. [70 FR at 57798]

C. NICB's Petition for Reconsideration

In its petition for reconsideration, NICB argues that a person may not import a motor vehicle subject to the Theft Prevention Standard unless the manufacturer that produced the new vehicle produced it in conformance with the Theft Prevention Standard. Petition at 4 et seq. NICB asserts that the Theft Act explicitly rules out subsequent modification of the vehicle or its components to comply with the standard. Id. at 4.

The petitioner points out that the Theft Prevention Standard is defined as a minimum performance standard for identifying major parts of new motor vehicles and major replacement parts by inscribing or affixing numbers or symbols on those parts. Id. at 4-5. In addition, the petitioner asserts that allowing RIs to certify compliance with the Theft Prevention Standard will result in a proliferation of stolen vehicles entering the U.S., causing financial loss and increased highway deaths and injuries. Id. at 6-8. NICB requests that 49 CFR 592.6(d)(1)(ii) be repealed. Id. at 9.

D. Response to NICB Petition

In our view, the question whether a vehicle may be conformed to the Theft Prevention Standard after its original manufacture but before its importation into the United States, and thus the validity of 49 CFR 592.6(d)(1)(ii), was resolved over twenty years ago when the Theft Prevention Standard was adopted. Most of the arguments raised by NICB were rejected in 1985. The NICB petition does not mention the resolution of the issue in 1985.

A focal point, as it was in the 1985 rulemaking, is the meaning of the word “manufacturer” in the former Title VI of the Cost Savings Act, the Theft Act. As interpreted in 1985, the definition of manufacturer in the Cost Savings Act applies to the Theft Act. We adhere to that interpretation in light of the language and subject matter of the Act. Congress has long been aware that vehicles are imported into the United States. In 1966, in the Vehicle Safety Act, Congress established the definition of manufacturer to include persons involved in manufacturing and assembling vehicles and importers of vehicles for resale. In 1972, Congress enacted the Cost Savings Act, which contained the same definition of a manufacturer. In the next decade, Congress added the Theft Act as a new subtitle VI to the Cost Savings Act. Congress amended the definitions provision at the outset of the Cost Savings Act ⁹ so that it applied to all subtitles of the Act except the subtitle involving fuel economy (subtitle V) and as provided in 15 U.S.C. 2021, 15 U.S.C. 1901 (1982 and Supp. V 1987). See fn 6 infra. As noted above, Congress changed one of the definitions in the Cost Savings Act for the purposes of the Theft Act, that of the term “passenger motor vehicle”, but not the definition of manufacturer, which reflects that Congress did not want to do so. It makes eminent sense for the same definition of manufacturer to apply to numerous aspects of motor vehicle regulation, including safety, bumpers, emissions, and theft prevention.¹⁰

⁹ The Theft Act provided “Section 2 of the Motor Vehicle Information and Cost Savings Act (15 U.S.C. 1901) is amended by inserting ‘and except as provided in section 601 of this Act [the Theft Act]’ immediately after ‘title V’ ”. 98 Stat. 2767.

¹⁰ We note that NICB refers to these programs together in one sentence. Petition at 3.

Observing that the Theft Act provides for enforcement against manufacturers, NICB suggests that the regulation at issue leaves NHTSA without enforcement authority. Petition at 5. As noted above, under both the Vehicle Safety Act and the Theft Act, as interpreted by NHTSA, the term manufacturer includes importers. The regulation at issue requires the RI to certify that the vehicle complies with parts marking requirements of the Theft Prevention Standard as manufactured or as modified prior to importation unless the vehicle is not required to comply. 49 CFR.592.6(d)(1)(ii). In addition, the declaration furnished to Customs by the RI upon entry of the vehicle provides for the RI to certify that the vehicle conforms with applicable Federal Theft Prevention Standards. HS-7 form, Box 3. The government has more than ample authority to enforce these provisions, including inspection of imported vehicles, revocation of an RI's license, and fines and penalties for noncompliance. See e.g., 49 U.S.C. 30141(c)(4), 30165, and 30166; 18 U.S.C. 1001; 49 CFR 592.6 and 592.7.

NICB also refers to a provision in the Theft Act stating that a person may not “manufacture for sale, sell, offer for sale, introduce or deliver for introduction into interstate commerce, or import into the United States, a motor vehicle subject to a standard prescribed under section 33102 or 33013 of this title unless it conforms to the standard.” 49 U.S.C. 33114. Petitioner argues that NHTSA's regulation ignores congressional commands. Petition at 4. This argument ignores the fact that the Theft Act prohibition refers to the Theft Prevention Standard, which provides that motor vehicles not originally manufactured in conformance with the standard may be brought into compliance with the standard prior to importation. Thus, the RI regulation at issue is consistent with the Standard and does not undermine the prohibition in 49 U.S.C. 33114.

The petitioner notes that the Theft Prevention Standard is defined as a minimum performance standard for identifying major parts of new motor vehicles and major replacement parts by inscribing or affixing numbers or symbols on those parts. 49 U.S.C. 33101. The reference to new motor vehicles reflects a general distinction between new and used vehicles in regulatory statutes regarding vehicles. For example, many of the central provisions of the Vehicle Safety Act, as amended, apply to new vehicles, rather than used vehicles. See e.g., 49 U.S.C. 30111, 30112(a), (b)(1); but see 49 U.S.C 30122 (make inoperative provision applies to all vehicles). Vehicles imported by registered importers do not neatly fall in either category. Although used, in numerous respects they are regulated like new vehicles and the RI must conform them to the requirements in effect when the vehicles originally were manufactured. The vehicles imported by RIs are subject to the prohibition on the sale of noncompliant vehicles in section 30112(a) when released, and the RIs are the vehicles' manufacturers for various purposes, such as certifying compliance and conducting recalls. See, e.g., 49 U.S.C. 30118. There are no comparable requirements regarding used vehicles. NICB also notes that the Theft Act refers to parts that manufacturers install. Petition at 4. NHTSA addressed this in 1985. See also 50 FR 43181.

NICB also argues that U.S. authorities cannot monitor parts marking operations that occur in foreign countries, as allowed under the new rule. Id. at 5. The petitioner asserts that this fact explains why Congress allowed vehicles that were not parts marked to be imported if they were labeled for export only. This argument ignores the 1985 Theft Prevention Standard and the fact that U.S. authorities have the authority to inspect the vehicles when they are awaiting release by NHTSA. See 49 U.S.C. 30166; 49 CFR 591.6(e). In any event, the exception from compliance with U.S. standards for vehicles that are for export only does not support the argument that conformance of vehicles to the Theft Prevention Standard after their original manufacture is precluded. There was a similar exemption from safety standards in the Vehicle Safety Act, 15 U.S.C. 1397(b)(5); see § 1397(b)(3) (1982), see also 49 U.S.C. 30112(b)(3) (2000). The Vehicle Safety Act did not prelude post-original manufacture conformity to safety standards and similarly the provision in the Theft Act did not do so.

Further, NICB argues that permitting parts marking before importation is inconsistent with NHTSA's RI regulatory system. Id. at 6. NICB bases its argument in part on 49 CFR 591.2 under which, it claims, nonconforming vehicles must be brought into conformity with the bumper and safety standards “before they are imported.” This argument lacks merit; the phrase “before importation” is not in the regulation. Similarly, NICB erroneously asserts that RIs by definition include only importers of vehicles not originally manufactured to conform to all applicable safety standards and not importers of vehicles that do not comply with the theft standard. This argument ignores the fact that over twenty years ago, NHTSA promulgated the Theft Prevention Standard, which allowed the importation of vehicles not originally manufactured to conform to the Theft Prevention Standard if conformed before importation. The preamble expressly recognized that vehicles are imported by direct (registered) importers. 50 FR at 63166, 43181-85. As explained in the preamble to the RI rule NPRM, prior to the RI rule amendments NHTSA implemented the prohibition on importation of vehicles that do not comply with the Theft Prevention Standards through the agency's certification regulation. See 65 FR at 69817. In the RI rule, the agency furthered the implementation of the Theft Act requirement through the RI rule. In view of the fact that RIs import vehicles, this is a sound approach to implementation.

The petitioner also advances policy arguments asserting that allowing RIs to certify compliance to the Theft Prevention Standard before importation will allow car thieves outside of the U.S. to place VINs from damaged vehicles, such as vehicles that have been totaled or submerged in water, on stolen vehicles from outside the U.S. Petition at 6-8. NICB argues that this will impose financial losses on American consumers and increase highway deaths and injuries. Id.

NICB's policy arguments ignore the fact that for twenty years vehicles not originally manufactured to comply with the Theft Prevention Standard have been allowed entry into the United States after being conformed to the Theft Prevention Standard. Also, NICB merely offers sweeping generalities to support its views. In fact, the vehicles imported through the registered importer program are a very small percentage of the total number of registered vehicles. In the United States, there are over 230,000,000 registered vehicles. In 2005, about 12,700 vehicles were imported into the U.S. by RIs. Approximately 99 percent of the imported vehicles not originally manufactured to meet U.S. standards were imported from Canada. A portion of these imported vehicles have not been high theft line vehicles subject to the Theft Prevention Standard. Of those that were, based upon our experience in program administration, a considerable fraction of the motor vehicles manufactured for the Canadian market are parts-marked to the U.S. Theft Prevention Standard. In addition, some portion of these Canadian vehicles were equipped with anti-theft devices identical or similar to ones installed in vehicles granted an exemption by NHTSA pursuant to 49 CFR part 543. Furthermore, effective September 2007, Canada Motor Vehicle Safety Standard 114 will require that all vehicles with a gross vehicle weight rating (GVWR) of less than 10,000 lbs, except emergency vehicles, be equipped with anti-theft immobilization devices. An estimated 85 percent of all model year 2006 Canadian vehicles are equipped with such devices. Thus, there is a relatively small subset of vehicles imported yearly into the U.S. that were not originally manufactured to comply with the U.S. Theft Prevention Standard and do not have an anti-theft device. We are not aware of problems associated with RIs' importation of vehicles that are subject to and do not comply with the Theft Prevention Standard. Since the practice of allowing pre-importation conformity has worked for 20 years, we decline to change it.

E. NICB's Petition for an Emergency Stay

On November 3, 2005, NICB filed a petition for an emergency stay of the effective date (November 3, 2005) of 49 CFR 592.6(d)(1)(ii) amended by the October 4, 2005 final rule. The petitioner asserts that the American public and importers will suffer irreparable harm. The petition requests that NHTSA stay the effective date of the provision until the agency has had time to consider its petition for reconsideration. This is moot. Accordingly, the petition is denied.

Issued: February 28, 2006.
Jacqueline Glassman,
Deputy Administrator.

[FR Doc. 06-2003 Filed 3-2-06; 8:45 am]

BILLING CODE 4910-59-P